DEPARTMENT OF TRANSPORTATION

Federal Aviation Administration

14 CFR Part 95

[Docket No. 30177; Amdt. No. 424]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace system. These changes are designed to provide for the safe and efficient use of the navigable airspace under instrument conditions in the affected areas.

EFFECTIVE DATE: 0901 UTC, October 5, 2000.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK 73169 (Mail Address: P.O. Box 25082 Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, D.C. on August 21, 2000.
L. Nicholas Lacey,
Director, Flight Standards Service.

Adoption of the Amendment

Accordingly, pursuant to the authority delegated to me by the Administrator, part 95 of the Federal Aviation Regulations (14 CFR part 95) is amended as follows effective at 0901 UTC, October 5, 2000.

1. The authority citation for part 95 continues to read as follows:

Authority: 49 U.S.C. 106(g), 40103, 40106, 40113, 40114, 40120, 44502, 44514, 44719, 44721.

2. Part 95 is amended to read as follows:

Revisions to IFR Altitudes and Changeover Points
[Effective Date: October 5, 2000]
From | To | MEA
§ 95.1001 Direct Routes—U.S. Is Amended To Delete
Gainesville, FL VORTAC | Royes, FL FIX | *2500
*1400—MOCA
Craig, FL VORTAC | Gainesville, FL VORTAC | 24000

From/To | Total distance | Changeover distance | Point from | Track angle | MEA | MAA
§ 95.5000 High Altitude RNAV Routes Is Amended To Delete J814R
Pantt, AK WP | 169.3 |  |  |  | 28000 | 45000
Felaw, AK WP |  |  |  | 043/223 to Felaw |  |
Felaw, AK WP | 212.4 | 120 | FELAW | 043/223 to Cop | 28000 | 45000
Jensu, AK WP |  |  |  | 044/224 to Jensu |  |
Jensu, AK WP | 223.3 | 102 | JENSU | 044/224 to Cop | 28000 | 45000
Fairbanks, AK VORTAC |  |  |  | 047/227 to Fairbanks

From | To | MEA
Color Routes—
§ 95.4 Green Federal Airway 8 Is Amended To Read in Part
Shemya, AK NDB | Mount Moffett, AK NDB/DME | *8,000
*6,300—MOCA
HF Communication required
Mount Moffett, AK NDB/DME | Dutch Harbor, AK NDB/DME | *9,000
*8,000—MOCA
HF Communication required
§ 95.6001 Victor Routes—U.S.
§ 95.6001 VOR Federal Airway 1 Is Amended To Read in Part
Rapen, NC FIX | Layze, NC FIX | *5,000
*1,600—MOCA
§ 95.6008 VOR Federal Airway 8 Is Amended To Read in Part
Grand Junction, CO VORTAC | Squat, CO FIX | 10,300
§ 95.6051 VOR Federal Airway 51 Is Amended To Read in Part
Louisville, KY VORTAC | NABB, IN VORTAC | *10,000
*2,300—MOCA
§ 95.6053 VOR Federal Airway 53 Is Amended To Read in Part
Louisville, KY VORTAC | House, IN FIX | *10,000
*3,000—MOCA
§ 95.6067 VOR Federal Airway 67 Is Amended To Read in Part
Vandalia, IL VORTAC | Cleek, IL FIX | 2,500
Cleek, IL FIX | Capital, IL VORTAC | 6,000
§ 95.6134 VOR Federal Airway 134 Is Amended To Read in Part
Grand Junction, CO VORTAC | Paces, CO FIX |
| NE BND | 11,000
| SW BND | 9,000
§ 95.6001 VOR Federal Airway 162 Is Amended To Delete
Martinsburg, WV VORTAC | Hyper, MD FIX | *5000
*3900—MOCA
Hyper, MD FIX | Harrisburg, PA VORTAC | *4000
*3100—MOCA
§ 95.6162 VOR Federal Airway 162 Is Amended To Read in Part
Bobss, PA FIX | East Texas, PA VORTAC | 3000
§ 95.6171 VOR Federal Airway 171 Is Amended To Read in Part
Louisville, KY VORTAC | Scoto, IN FIX | *10,000
*3,000—MOCA
Scoto, IN FIX | Terre Haute, IN VORTAC | *4,000
*3,000—MOCA
§ 95.6220 VOR Federal Airway 220 Is Amended To Read in Part
Grand Junction, CO VORTAC | Paces, CO FIX |
| NE BND | 11,000
| SW BND | 9,000
§ 95.6296 VOR Federal Airway 296 Is Amended To Read in Part
Fayetteville, NC VOR/DME | Rapvy, NC FIX | *3,000
*2,100—MOCA
Rapvy, NC FIX | Wilmington, NC VORTAC | *5,000
*2,100—MOCA
§ 95.6319 VOR Federal Airway 319 Is Amended To Read in Part
Arsen, AK FIX | Fanci, AK FIX | *4,000
*2,000—MOCA
Hooper Bay, AK VOR/DME | Nanwak, AK NDB/DME | 2,300
Nanwak, AK NDB/DME | Kipnuk, AK VOR/DME | 2,500
§ 95.6453 VOR Federal Airway 453 Is Amended To Read in Part
Bethel, AK VORTAC | Unalakleet, AK VORTAC | *9,000
§ 95.6591 VOR Federal Airway 591 Is Amended To Read in Part
Grand Junction, CO VORTAC | Paces, CO FIX |
| NE BND | 11,000
| SW BND | 9,000

From | To | MEA | MAA
§ 95.7001 Jet Routes
§ 95.7111 Jet Route No. 111 Is Amended To Delete
Anchorage, AK Vortac | Middleton island, AK VOR/DME | 18000 | 45000
Middleton Island, AK | Snout AK, WP | 24000 | 45000
§ 95.7115 Jet Route No. 115 Is Amended To Read in Part
Shemya, AK NDB | Mount Moffett, AK NDB/DME | 18000 | 45000
Mount Moffett, AK NDB/DME | Dutch Harbor, AK NDB/DME | 18000 | 45000
§ 95.7127 Jet Route No. 127 Is Amended To Delete
Augin, AK FIX | King Salmon, AK VOR/DME | 18000 | 45000
§ 95.7501 Jet Route No. 501 Is Amended To Delete
Bethel, AK VORTAC | Yearr, AK FIX | 29000 | 45000
Yearr, AK FIX | Mixer, AK FIX | 35000 | 45000
§ 95.7501 Jet Route No. 501 Is Amended To Read in Part
Vidda, AK FIX | Bethel, AK VORTAC | 18000 | 45000
§ 95.7511 Jet Route No. 511 Is Amended To Delete
Encor, AK FIX | Dillingham, AK VORTAC | 28000 | 45000

From | To | Changeover points: Distance | Changeover points: From
§ 95.8003 VOR Federal Airways Changeover Points Airway Segment V453
Unalakleet, AK VORTAC | Bethek, AK VORTAC | 81 | Unalakleet

[FR Doc. 00-23186 Filed 9-8-00; 8:45 am]

BILLING CODE 4910-13-M